DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, e-mail paperwork@hrsa.gov or call the HRSA Reports Clearance Office at (301) 443-1129.

The following request has been submitted to the Office of Management and Budget for review under the Paperwork Reduction Act of 1995:

Proposed Project Title: Evaluation of the Text4baby Program—(OMB No. 0915-xxxx)—[NEW]

Background: Text4baby is a mobile health education program that provides free, brief, evidence-based, health messages to women who are pregnant or have an infant under one year of age. An educational program led by the National Healthy Mothers, Healthy Babies coalition (HMHB), Text4baby is intended to help women have safe and healthy pregnancies by empowering them with information they need to give their babies the best possible start in life. The Text4baby program was launched nationally in February 2010. Text4baby is made possible through a broad, public-private partnership that includes government and Tribal agencies, corporations, academic institutions, professional associations, and non-profit organizations.

The goal of this program evaluation is to examine the characteristics of women who utilize the Text4baby mobile phone-based program, to assess their experience with the program, and to determine whether enrollment in Text4baby is associated with healthy behaviors and timely access to health care during pregnancy and an infant's first year of life.

This information will help the Department of Health and Human Services understand the usefulness of mobile health technology and the potential for expanding and/or adapting mobile phone messaging to additional health topics or conditions. The study also may offer insight into planning and implementing similar projects.

Purpose: The purpose of the evaluation is to assess the usefulness of the Text4baby program.

The four data collection components are as follows:

• Safety Consumer Net Survey with subscribers and non-subscribers to the Text4baby program who receive prenatal care in community health centers in four communities. The health centers will recruit eligible women, obtain their signed consent to participate in the study, and convey their contact information to the data collection contractor. Data from the telephone survey will be linked to selected data from electronic health records (EHRs) for respondents who consent to the release of their EHRs. The survey will be conducted in two rounds: Round 1 will include pregnant women and Round 2 will include the same women approximately nine months later during the postpartum period.

• Focus Groups with current subscribers in four communities to obtain more in-depth qualitative data regarding the usefulness of the messages and the program.

• Key Informant Interviews of a diverse mix of providers in four communities to obtain provider perspectives on the usefulness of the Text4baby programs. Providers could include physicians, midwives, nurses, case managers, outreach workers, and health educators.

• Stakeholder Interviews with Text4baby partners (public and private) to examine the implementation of Text4baby at the national, regional, state, or local level, including outreach, enrollment, coalition building, sustainability, and replication.

The annual estimate of burden is as follows:

Instrument | Person incurring burden | Number of respondents | Responses per respondent | Total responses | Hours per response | Total burden hours
Consent Training and Coordination | Health Center Study Coordinators | 8 | 12 | 96 | 1.00 | 96
| Health Center Staff | 32 | 1 | 32 | 1.00 | 32
Prenatal Patient Consent | Health Center Staff | 1630 | 1 | 1630 | 0.08 | 130
| Prenatal Patient | 1630 | 1 | 1630 | 0.08 | 130
Parent-of-Minor Consent | Health Center Staff | 195 | 1 | 195 | 0.25 | 49
| Parent of Minor | 195 | 1 | 195 | 0.08 | 16
Safety Net Consumer Survey Round 1 | Prenatal Patient | 960 | 1 | 960 | 0.33 | 317
Safety Net Consumer Survey Round 2 | Postpartum Patient | 768 | 1 | 768 | 0.33 | 253
Focus Groups | Prenatal/Postpartum Patient | 80 | 1 | 80 | 1.50 | 120
Key Informant Interviews | Providers | 40 | 1 | 40 | 0.75 | 30
Stakeholder Interviews | Stakeholders | 30 | 1 | 30 | 0.75 | 23
Total |  |  |  |  |  | 1196

Written comments and recommendations concerning the proposed information collection should be sent within 30 days of this notice to the desk officer for HRSA, either by e-mail to OIRA_submission@omb.eop.gov or by fax to 202-395-6974. Please direct all correspondence to the “attention of the desk officer for HRSA.”

Dated: October 7, 2011.
Reva Harris,
Acting Director, Division of Policy and Information Coordination.

[FR Doc. 2011-26590 Filed 10-13-11; 8:45 am]

BILLING CODE 4165-15-P